DEPARTMENT OF EDUCATION

Submission for OMB Review; Comment Request

AGENCY: Department of Education.

ACTION: Correction notice.

SUMMARY: On July 9, 2008, the Department of Education published a comment period notice in the Federal Register (Page 39286, Column 1) for the information collection, “FRSS Educational Technology in Public Schools.” This notice hereby corrects the title to “FRSS 96—District Survey of Alternative Schools and Programs: 2007-2008.” The IC Clearance Official, Regulatory Information Management Services, Office of Management, hereby issues a correction notice as required by the Paperwork Reduction Act of 1995.

Dated: July 10, 2008.
Angela C. Arrington,
IC Clearance Official, Regulatory Information Management Services, Office of Management.

[FR Doc. E8-16172 Filed 7-15-08; 8:45 am]

BILLING CODE 4000-01-P